DEPARTMENT OF COMMERCE

National Oceanic and Atmospheric Administration

50 CFR Part 635

[RTID 0648-XD183]

Atlantic Highly Migratory Species; Amendments 15 and 16 to the 2006 Consolidated Atlantic Highly Migratory Species Fishery Management Plan

AGENCY: National Marine Fisheries Service (NMFS), National Oceanic and Atmospheric Administration (NOAA), Commerce.

ACTION: Notice of additional public hearing locations.

SUMMARY: On May 5, 2023, NMFS published a proposed rule for Amendment 15 to the 2006 Consolidated Highly Migratory Species (HMS) Fishery Management Plan (FMP) on spatial fisheries management and electronic monitoring cost allocation. On May 8, 2023, NMFS published a notice of intent for scoping of Amendment 16 to the 2006 Consolidated HMS FMP on shark management. In both actions, NMFS announced several public hearings and webinars to provide the opportunity for public comment. This notice announces that NMFS is adding a public hearing for both Amendment 15 and Amendment 16 based on public interest.

DATES: NMFS will hold one additional public hearing on Draft Amendment 15 and its proposed rule and another public hearing on the scoping document for Amendment 16. See SUPPLEMENTARY INFORMATION for all meeting dates and times. See SUPPLEMENTARY INFORMATION in the Amendment 15 proposed rule (May 5, 2023, 88 FR 29050) and Amendment 16 notice of intent (May 8, 2023, 88 FR 29617) for the other public hearings and conference calls dates, times, and locations.

ADDRESSES: NMFS will hold a public hearing on the proposed rule for Amendment 15 and its proposed rule in Panama City, FL, and a public hearing on the scoping document for Amendment 16 in San Juan, PR. For specific location, date and time see the SUPPLEMENTARY INFORMATION section of this document.

Electronic copies of the draft document for Amendment 15 to the 2006 Consolidated HMS FMP (https://www.fisheries.noaa.gov/action/amendment-15-2006-consolidated-hms-fishery-management-plan-spatial-fisheries-management-and) and the scoping document for Amendment 16 to the 2006 Consolidated HMS FMP (https://www.fisheries.noaa.gov/action/scoping-amendment-16-2006-consolidated-atlantic-highly-migratory-species-fishery-management) may be obtained on the internet.

FOR FURTHER INFORMATION CONTACT: Guy DuBeck (Guy.DuBeck@noaa.gov), Steve Durkee (Steve.Durkee@noaa.gov), Larry Redd (Larry.Redd@noaa.gov), and Karyl Brewster-Geisz (Karyl.Brewster-Geisz@noaa.gov), by email, or by phone at (301) 427-8503.

SUPPLEMENTARY INFORMATION:

Background

Atlantic HMS fisheries are managed under the authority of the Magnuson-Stevens Fishery Conservation and Management Act (Magnuson-Stevens Act; 16 U.S.C. 1801 et seq.) and the Atlantic Tunas Convention Act (16 U.S.C. 971 et seq.). The 2006 Consolidated HMS FMP and its amendments are implemented by regulations at 50 CFR part 635.

On May 5, 2023, NMFS published a proposed rule (88 FR 29050) for Draft Amendment 15 to the 2006 Consolidated HMS FMP on spatial fisheries management and electronic monitoring cost allocation. On May 8, 2023, NMFS published a notice of intent (88 FR 29617) for scoping of Amendment 16 to the 2006 Consolidated HMS FMP on shark management. In both actions, NMFS announced public hearings and webinars to provide the opportunity for public comment. Due to requests for additional public hearings, NMFS has decided conduct an additional public hearing for Draft Amendment 15 and its proposed rule in Panama City, FL, and an additional public hearing for scoping for Amendment 16 in San Juan, PR (Table 1). None of the other public hearing timing or locations have changed.

Table 1—Dates, Times, and Locations of Upcoming Public Hearings and Conference Calls
Rulemaking | Venue | Date/time | Street address/webinar information
Amendment 16 | Public Hearing | August 16, 2023, 5:30 p.m.-8:30 p.m | Embassy Suites, 8000 Jose M. Tartak Avenue, San Juan, PR 00979.
Amendment 15 | Public Hearing | August 29, 2023, 5 p.m.-8 p.m | National Marine Fisheries Service, Southeast Fisheries Science Center, 3500 Delwood Beach Road, Panama City, FL 32408.

The public is reminded that NMFS expects participants to conduct themselves appropriately. At the beginning of each meeting, a representative of NMFS will explain the ground rules (e.g., all comments are to be directed to the Agency; attendees will be called to give their comments in the order in which they registered to speak; each attendee will have an equal amount of time to speak; and attendees should not interrupt one another). The in-person meeting locations will be physically accessible to people with disabilities. Requests for sign language interpretation or other auxiliary aids should be directed to Guy DuBeck or Steve Durkee at 301-427-8503, at least 7 days prior to the meeting. A NMFS representative will attempt to structure the meeting so that all attending members of the public will be able to comment if they so choose, regardless of the controversial nature of the subject matter. If attendees do not respect the ground rules they will be asked to leave the meeting.

Dated: July 28, 2023.
Jennifer M. Wallace,
Acting Director, Office of Sustainable Fisheries, National Marine Fisheries Service.

[FR Doc. 2023-16440 Filed 8-1-23; 8:45 am]

BILLING CODE 3510-22-P